DEPARTMENT OF COMMERCE

National Oceanic and Atmospheric Administration

50 CFR Parts 600 and 660

[Docket No. 991223347-9347-01; I.D. 120299C]

Fisheries off West Coast States and in the Western Pacific; Pacific Coast Groundfish Fishery; Extension of Emergency Rule

AGENCY: National Marine Fisheries Service (NMFS), National Oceanic and Atmospheric Administration (NOAA), Commerce.

ACTION: Extension of emergency rule effectiveness period.

SUMMARY: This action extends an existing emergency rule that was published in conjunction with the annual specifications and management measures for the Pacific coast groundfish fishery off Washington, Oregon, and California in 2000. The emergency authority was used to implement and designate as routine a number of management measures that are intended to achieve rebuilding plans for overfished stocks, reduce bycatch, prevent overfishing, maximize the harvest of healthy stocks while protecting and rebuilding overfished and depleted stocks, and equitably distribute the burdens among the different fishing sectors. The emergency rule is authorized by the Magnuson-Stevens Fishery Conservation and Management Act (Magnuson-Stevens Act).

DATES: The emergency rule published January 4, 2000, beginning at 65 FR 221, is extended until the effective date of the annual specifications and management measures for the 2001 groundfish fishery, but no later than January 3, 2001. The 2001 annual specifications and management measures will be published in the Federal Register.

ADDRESSES: Copies of the environmental assessment/regulatory impact review are available from William Stelle, Jr., Administrator, Northwest Region (Regional Administrator), NMFS, 7600 Sand Point Way NE., BIN C15700, Bldg. 1, Seattle, WA 98115-0070; or Rodney McInnis, Acting Administrator, Southwest Region, NMFS, 501 West Ocean Blvd., Suite 4200, Long Beach, CA 90802-4213.

FOR FURTHER INFORMATION CONTACT: Katherine King at 206-526-6140.

SUPPLEMENTARY INFORMATION: NMFS is extending an emergency rule (65 FR 221, January 4, 2000) which otherwise would expire on July 3, 2000. The emergency authority was used to implement and designate as routine a number of management measures that were designed to achieve rebuilding plans for overfished stocks, reduce bycatch, prevent overfishing, maximize the harvest of healthy stocks while protecting and rebuilding overfished and depleted stocks, and equitably distribute the burdens among the different fishing sectors. NMFS is extending the rule pursuant to the emergency rulemaking authority of the Secretary of Commerce (Secretary) under the Magnuson-Stevens Act, 16 U.S.C. 1855(c)(3)(B). Amendment 13 to the FMP, currently under development, includes provisions that would authorize, on a permanent basis, future use of the provisions implemented under the emergency rule. This action is necessary to maintain the management regime approved by the Secretary, implemented on January 1, 2000, pending Secretarial review and approval of Amendment 13. No changes to the emergency rule are made by this extension.

Background

In the past, annual management measures have been primarily set through “routine” management procedures that consisted of adjusting commercial trip limits and recreational bag limits. For most species, the limited entry commercial trip limit did not vary with the type of gear used. However, because of the drastic reductions in harvest limits for many species which were necessary in 2000, and the multispecies characteristic of the fishery, the existing routine management measures did not produce sufficient and appropriately targeted harvest reductions. Therefore, at its November 1999 meeting, the Pacific Fishery Management Council (Council) recommended that NMFS implement an emergency rule for 2000 that would address these concerns. At the time, Amendment 13 was under development, and the Council expected that Amendment 13 would authorize future use of the emergency provisions on a permanent basis. Accordingly, an emergency rule with a request for public comments was prepared in conjunction with the annual specifications and management measures for 2000. It was filed with the Federal Register on December 27, 1999, published on January 4, 2000 (65 FR 221), and became effective on January 1, 2000. A detailed discussion on the management measures, rebuilding plans, and rationale for the emergency action is included in the preamble to the emergency rule/annual management measures (65 FR 221, January 4, 2000) and the environmental assessment/regulatory impact review for that action, and is not restated in this extension.

Public Comments

NMFS received a number of comments on the emergency rule and annual specifications and management measures, and already has, or will, respond to those comments individually, with one exception. NMFS received, as a comment, a copy of the complaint that was filed in Federal District Court in the Northern District of California, in the case of Solomon v. Daley, Civil No. 00-0383. NMFS will respond to this comment in the context of that lawsuit rather than in the extension to the emergency rule.

Classification

This emergency rule has been determined to be not significant for purposes of Executive Order 12866.

Authority: 16 U.S.C. 1801 et seq.

Dated: June 27, 2000.
Andrew A. Rosenberg,
Deputy Assistant Administrator for Fisheries, National Marine Fisheries Service.

[FR Doc. 00-16638 Filed 6-29-00; 8:45 am]

BILLING CODE 3510-22-F